RAILROAD RETIREMENT BOARD

Sunshine Act: Notice of Public Meeting

Notice is hereby given that the Railroad Retirement Board will hold a meeting on March 5, 2019, 1:00 p.m. at the Board's meeting room on the 8th floor of its headquarters building, 844 North Rush Street, Chicago, Illinois, 60611.

The meeting will be open to the public and the agenda is as follows:

I. Call to Order

II. Roll Call

III. New Business

a. Board Communication with NRRIT

b. OEO Reporting Structure

IV. Adjournment

The person to contact for more information is Sylvia Zaragoza, Acting Secretary to the Board, Phone No. 312-751-4939.

Dated: February 22, 2019.
For The Board.
Sylvia Zaragoza,
Acting Secretary to the Board.

[FR Doc. 2019-03470 Filed 2-25-19; 11:15 am]

BILLING CODE 7905-01-P